DEPARTMENT OF AGRICULTURE

Agricultural Marketing Service

[Docket number AMS-FTPP 19-0030]

Proposed Posting, Posting, and De-posting of Stockyards

AGENCY: Agricultural Marketing Service, USDA.

ACTION: Notice and request for comments.

SUMMARY: The Agricultural Marketing Service (AMS), USDA, is taking several actions to post and de-post stockyards under the Packers and Stockyards Act (P&S Act). Specifically, we are proposing that 10 stockyards now operating subject to the P&S Act be posted. We are also posting six stockyards that were identified previously as operating subject to the P&S Act and de-posting two stockyards that no longer meet the definition of a stockyard.

DATES: For the proposed posting of stockyards, we will consider comments that we receive on or before June 24, 2019.

ADDRESSES: We invite you to submit comments on this notice. You may submit comments by any of the following methods:

• Internet: Go to http://www.regulations.gov. Follow the on-line instructions for submitting comments.

• Fax: (202) 690-3207.

• Mail, hand delivery, or courier: Stuart Frank, USDA, AMS, 1400 Independence Avenue SW, Room 2507-S, Washington, DC 20250-3601.

Instructions: All comments should refer to the date and page number of this issue of the Federal Register. The comments and other documents relating to this action will be available for public inspection during regular business hours.

FOR FURTHER INFORMATION CONTACT: Donna A. Ash, Program Analyst, AMS, Packers and Stockyards Division at (202) 720-0222 or Donna.a.ash@usda.gov.

SUPPLEMENTARY INFORMATION: AMS administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as, “. . . any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary de-posts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act and therefore cannot be posted. A posted stockyard can be “de-posted,” which occurs when the facility is no longer used as a stockyard.

We are hereby notifying stockyard owners and the public that the following 10 stockyards meet the definition of a stockyard and that we propose to designate these stockyards as posted stockyards.

Proposed facility No. | Stockyard name and location
KS-210 | Hill City Commission, LLC, Hill City, Kansas.
KY-189 | Blue Grass Stockyards, LLC, Lexington, Kentucky.
KY-190 | Franklin Livestock Market Inc. Franklin, Kentucky.
MN-194 | Heidelberger Farm Equipment, LLC, Pine City, Minnesota.
NE-189 | Chappell Livestock LLC, Chappell, Nebraska.
NM-125 | Santa Teresa Livestock Auction LLC, Santa Teresa, New Mexico.
OK-222 | Heart & Soul Horse Co. Sallisaw Oklahoma.
OK-223 | Hinz Auction Land and Cattle, LLC, Clinton, Oklahoma.
OK-225 | C.M.S. Livestock Auction, LLC, Wanette, Oklahoma.
VA-163 | Alex Eugene Dill Hollering Hill Auction LLC, Nathalie, Virginia.

We are also notifying the public that the stockyards listed in the following table meet the P&S Act's definition of a stockyard, and therefore, we have posted these stockyards. On September 5, 2017, we published a notice in the Federal Register (82 FR 41909) proposing to post these six stockyards. Since we received no comments to our proposal, we assigned the stockyards a facility number and notified the owners of the stockyard facilities. Posting notices were sent to each stockyard owner to display in public areas of their stockyard. The table below reflects the date of posting for these stockyards.

Facility No. | Stockyard name and location | Date of Posting
FL-141 | Gulf Coast Livestock Six Shooter Investment Group, LLC, Madison, Florida | 10/04/2018
SC-165 | Willietakeit Auctions, Pelzer, South Carolina | 08/14/2018
MS-182 | Trade Day Auction, Philadelphia, Mississippi | 08/08/2018
OK-220 | Daniel's Hog and Goat Sale, Howe, Oklahoma | 08/06/2018
OK-219 | Watsons Auction Service, Maud, Oklahoma | 08/06/2018
OK-221 | Glover Auction & Livestock, LLC, Lawton, Oklahoma | 08/03/2018

Finally, we are notifying the public that the following two stockyards no longer meet the definition of a stockyard and are being de-posted. We de-post stockyards when the facility can no longer be used as a stockyard. The reasons a facility can no longer be used as a stockyard may include the following: (1) The market agency has moved and the posted facility is abandoned; (2) the facility has been torn down or otherwise destroyed, such as by fire; (3) the facility is dilapidated beyond repair; or (4) the facility has been converted and its function has changed.

Facility No. | Stockyard name and location | Date de-posted
KY-125 | Blue Grass Stockyards to Blue Grass Stockyards, L.L.C., Lexington, KY | 9/18/2017
MO-159 | United Producers, Inc., Marshall, Missouri | 12/17/2018

Authority: 7 U.S.C. 202.

Dated: June 4, 2019.
Bruce Summers,
Administrator, Agricultural Marketing Service.

[FR Doc. 2019-12014 Filed 6-6-19; 8:45 am]

BILLING CODE 3410-02-P